SMALL BUSINESS ADMINISTRATION

[Declaration of Disaster #3271]

State of Minnesota (Amendment #1)

In accordance with a notice from the Federal Emergency Management Agency dated July 12, 2000, the above-numbered Declaration is hereby amended to include Dakota, Fillmore, Houston, and Mower Counties in the State of Minnesota as a disaster area due to damages caused by severe storms and flooding beginning on May 17, 2000, and continuing.

In addition, applications for economic injury loans from small businesses located in the following contiguous Counties may be filed until the specified date at the previously designated location: Dodge, Freeborn, Goodhue, Hennepin, Olmsted, Ramsey, Rice, Scott, Steele, Washington, and Winona Counties in Minnesota; Pierce County, Wisconsin; and Howard, Mitchell, Winneshiek, and Worth Counties in Iowa. Any counties contiguous to the above-named primary counties and not listed herein have been previously declared under a separate declaration for the same occurrence.

The economic injury number for Wisconsin is 9H8500 and for Iowa the number is 9H8600.

All other information remains the same, i.e., the deadline for filing applications for physical damage is August 29, 2000 and for economic injury the deadline is March 30, 2001.

(Catalog of Federal Domestic Assistance Program Nos. 59002 and 59008)
Dated: July 13, 2000.
Herbert L. Mitchell,
Acting Associate Administrator for Disaster Assistance.

[FR Doc. 00-18270 Filed 7-18-00; 8:45 am]

BILLING CODE 8025-01-P